DEPARTMENT OF COMMERCE

Economic Development Administration

Notice of Petitions by Producing Firms for Determination of Eligibility To Apply for Trade Adjustment Assistance

AGENCY: Economic Development Administration (EDA), Commerce.

ACTION: Notice Request for Comments.

Petitions have been accepted for filing on the dates indicated from the firms listed below.

List of Petition Action By Trade Adjustment Assistance For Period June 18, 2005-July 15, 2005
Firm name | Address | Date petition accepted | Product
Epley Enterprises, Inc. | 3916 S. Chadbourne, San Angelo, TX 76902 | 21-Jun-05 | Precision frill bits, hole openers and downhole air hammers.
Moosehead Manufacturing Company | 123 Chapin Avenue, Monson, ME 04464 | 23-Jun-05 | Household and office furniture of wood.
G. C. International, Inc. | 4671 Calle Caraga Camarillo, CA 93012 | 24-Jun-05 | Precision aluminum and zinc castings.
Stitch Meisters d.b.a. VP Sports | 4717 Osborne #500, El Paso, Tx 79922 | 24-Jun-05 | Men's cotton shirts.
Whole Earth Hat Co., Inc. d.b.a. Korber Hats and Green Club Hats | 394 Kilburn Street, Fall River, MA 02724 | 24-Jun-05 | Straw and felt hats.
Paper Service, Ltd. | 30 Recycle Way, Ashuelot, NH 03441 | 6-Jul-05 | Tissue paper for wrapping.
Applied Industrial & Architectural Plastics, Inc. d.b.a. AIA Plastics, Inc | 290 East 56th Avenue, Denver, CO 80216 | 8-Jul-05 | Plastic boxes and/or crates for display purposes.
FiberLok, Inc. | 811 Stockton Avenue, Fort Collins, CO 80524 | 12-Jul-05 | Embroidered appliques of man-made fiber.
Palacios Seafood Co., Inc., d.b.a. Anchor Seafood | 1318 Perryman, Palacios, TX 77465 | 12-Jul-05 | Shrimp.
QX, Inc. | 2705 West Highway 55, Hamel, MN 55340 | 12-Jul-05 | Recreational motorcycle wheels.
Amercan Polishing, Inc. | 141 Industrial Park Dr., Salem, AR 72576 | 14-Jul-05 | Aluminum castings.
Ashly Audio, Inc. | 847 Holt Road, Webster, NY 14580 | 14-Jul-05 | Audio frequency electric power equipment.
All Packaging Company | 14806 East 33rd Place, Aurora, CO 80011 | 15-Jul-05 | Folding cartons, boxes, and cases, and sanitary food and beverage containers.
Blind Maker, Inc. (The) | 2013 Centimeter Circle, Austin, TX 78758 | 15-Jul-05 | Wooden, plastic and aluminum blinds.
Kautza Furniture, Inc. | 11509 Summer Street, Aniwa, WI 55408 | 15-Jul-05 | Wooden furniture and wooden furniture legs and arms for chairs and sofas.
Together-West, Inc., & Sew-Together, Inc. | 220 West 25th Street, National City, CA 91950 | 15-Jul-05 | Women's coats and jackets.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7812, Economic Development Administration, U.S. Department of Commerce, Washington, D.C. 20230, no later than the close of business of the tenth calendar day following the publication of this notice. The Catalog of Federal Domestic Assistance official program number and title of the program under which these petitions are submitted is 11.313, Trade Adjustment Assistance.

Dated: July 20, 2005.
Anthony J. Meyer,
Senior Program Analyst, Office of Strategic Initiatives.

[FR Doc. 05-14679 Filed 7-25-05; 8:45 am]

BILLING CODE 3510-24-P